DEPARTMENT OF THE INTERIOR

Bureau of Land Management

[LLNM910000 L10200000.PH0000]

Notice of Intent To Establish and Call for Nominations for the New Mexico Resource Advisory Councils

AGENCY: Bureau of Land Management, Interior.

ACTION: Notice.

SUMMARY: The BLM is publishing this notice in accordance with the Federal Land Policy and Management Act (FLPMA) and the Federal Advisory Committee Act (FACA). The Bureau of Land Management (BLM) gives notice that the Secretary of the Interior is establishing four resource advisory councils in New Mexico to represent the four BLM districts in the State. This notice is also to solicit public nominations for each of the four New Mexico Resource Advisory Councils (RAC). The RACs provide advice and recommendations on land use planning and management of the public lands within their geographic area.

DATES: All nominations must be received no later than August 5, 2010.

ADDRESSES: See SUPPLEMENTARY INFORMATION for the address of BLM New Mexico District Offices accepting nominations.

FOR FURTHER INFORMATION CONTACT: Theresa Herrera, Public Affairs Specialist, New Mexico State Office, Bureau of Land Management, 301 Dinosaur Trail, Santa Fe, NM 87508, telephone (505) 954-2021; or e-mail Theresa_Herrera@blm.gov.

SUPPLEMENTARY INFORMATION: The Federal Land Policy and Management Act (FLPMA) (43 U.S.C. 1739) directs the Secretary of the Interior to involve the public in planning and issues related to management of lands administered by the BLM. Section 309 of FLPMA directs the Secretary to establish 10- to 15-member citizen-based advisory councils that are consistent with the Federal Advisory Committee Act (FACA). The rules governing RACs are found at 43 CFR subpart 1784. As required by FACA, RAC membership must be balanced and representative of the various interests concerned with the management of the public lands. These include three categories:

Category One—Holders of Federal grazing permits and representatives of organizations associated with energy and mineral development, timber industry, transportation or rights-of-way, developed outdoor recreation, off-highway vehicle use, and commercial recreation;

Category Two—Representatives of nationally or regionally recognized environmental organizations; archaeological and historic organizations, dispersed recreation activities, and wild horse and burro organizations; and

Category Three—Representatives of State, county, or local elected office; representatives and employees of a State agency responsible for managing natural resources; representatives of Indian tribes within or adjacent to the area for which the council is organized; representatives of academia who are employed in natural sciences; and the public-at-large.

Individuals may nominate themselves or others. Nominees must be residents of the district in which the RAC has jurisdiction. The BLM will evaluate nominees based on their education, training, experience, and knowledge of the geographical area of the RAC. Nominees should demonstrate a commitment to collaborative resource decisionmaking. The Obama Administration prohibits individuals who are currently federally registered lobbyists to serve on all FACA and non-FACA boards, committees, or councils. The following must accompany all nominations:

—Letters of reference from represented interests or organizations;

—A completed background information nomination form; and

—Any other information that addresses the nominee's qualifications.

Simultaneous with this notice, BLM district offices will issue press releases providing additional information for submitting nominations, with specifics about the number and categories of member positions available for each RAC in the State. Nominations for RACs should be sent to the appropriate BLM offices listed below:

Albuquerque RAC

Edwin Singleton, Albuquerque District Office, BLM, 435 Montant NE., Albuquerque, New Mexico 87107, (505) 761-8700.

Farmington RAC

Steve Henke, Farmington District Office, BLM, 1235 La Plata Highway, Farmington, New Mexico 87401, (505) 599-8900.

Las Cruces RAC

Bill Childress, Las Cruces District Office, BLM, 1800 Marquess Street, Las Cruces, New Mexico 88005, (575) 525-4300.

Pecos RAC

Doug Burger, Pecos District Office, BLM, 1717 West Second Street, Roswell, New Mexico 88201, (575) 627-0272.

Certification Statement: I hereby certify that the BLM New Mexico Resource Advisory Councils are necessary and in the public interest in connection with the Secretary's responsibilities to manage the lands, resources, and facilities administered by the BLM.

Dated: June 11, 2010.
Ken Salazar,
Secretary.

[FR Doc. 2010-14930 Filed 6-18-10; 8:45 am]

BILLING CODE 4310-FB-P